DEPARTMENT OF TRANSPORTATION

Federal Aviation Administration

14 CFR Part 39

[Docket No. FAA-2015-0824; Directorate Identifier 2013-NM-191-AD]

RIN 2120-AA64

Airworthiness Directives; Airbus Airplanes

AGENCY: Federal Aviation Administration (FAA), DOT.

ACTION: Notice of proposed rulemaking (NPRM).

SUMMARY: We propose to supersede Airworthiness Directive (AD) 98-20-27, for all Airbus Model A300 B4-600, B4-600R, and F4-600R series airplanes, and Model A300 C4-605R Variant F airplanes (collectively called Model A300-600 series airplanes). AD 98-20-27 currently requires repetitive inspections to detect fatigue cracking of the wing top skin at the front spar joint; and a follow-on eddy current inspection and repair, if necessary. Since we issued AD 98-20-27, we have received reports of cracking of the wing top skin in an area not required for inspection by AD 98-20-27. This proposed AD would reduce the inspection compliance time and intervals, and extend the inspection area of the wing top skin at the front spar joint. We are proposing this AD to detect and correct fatigue cracking of the wing top skin at the front spar joint, which could result in reduced structural integrity of the airplane.

DATES: We must receive comments on this proposed AD by May 29, 2015.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-0824; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Comments Invited

We invite you to send any written relevant data, views, or arguments about this proposed AD. Send your comments to an address listed under the ADDRESSES section. Include “Docket No. FAA-2015-0824; Directorate Identifier 2013-NM-191-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On September 16, 1998, we issued AD 98-20-27, Amendment 39-10793 (63 FR 50981, September 24, 1998). AD 98-20-27 requires actions intended to address an unsafe condition on all Airbus Model A300 B4-600, B4-600R, and F4-600R series airplanes, and Model A300 C4-605R Variant F airplanes (collectively called Model A300-600 series airplanes).

Since we issued AD 98-20-27, Amendment 39-10793 (63 FR 50981, September 24, 1998): The European Aviation Safety Agency (EASA), which is the Technical Agent for the Member States of the European Union, has issued EASA Airworthiness Directive 2013-0232R1, dated October 2, 2013 (referred to after this as the Mandatory Continuing Airworthiness Information, or “the MCAI”), to correct an unsafe condition. The MCAI states:

During full-scale fatigue testing conducted in the early 1990's, cracks were found on the top skin of the wing between Ribs 1 and 7, starting at the front spar fastener holes.

This condition, if not detected and corrected, could adversely affect the structural integrity of the wing.

Consequently, Airbus issued Service Bulletin (SB) A300-57-6045 and DGAC [Direction Générale de l'Aviation Civile] France issued AD 97-374-238 [http://ad.easa.europa.eu/blob/19973740tb_superseded.pdf/AD_F-1997-374-238_2] for A300-600 aeroplanes and AD 1999-008-020 [http://ad.easa.europa.eu/blob/19980080tb_superseded.pdf/AD_F-1999-008-020_2] for A300-600ST aeroplanes to require repetitive detailed inspections of the wing top skin and, in case of findings, an Eddy Current (EC) inspection, and, depending on the size of the cracks, repair.

After those [DGAC] ADs were issued, further cracks to the wing top skin were reported by operators, within an area not covered by the existing [DGAC] ADs. To address this potential unsafe condition, Airbus revised SB A300-57-6045 to extend the area to be inspected.

In addition, a fleet survey and updated Fatigue and Damage Tolerance analyses were performed in order to substantiate the second A300-600 Extended Service Goal (ESG2) exercise. The results of these analyses have determined that the inspection thresholds and intervals must be reduced to allow timely detection of these cracks and the accomplishment of applicable corrective action(s).

As the ESG2 exercise is only applicable to A300-600 aeroplanes, A300-600ST aeroplanes are now addressed through new Airbus SB A300-57-9026.

For the reasons described above, this [EASA] AD retains the requirements of DGAC France AD 97-374-238(B) [http://ad.easa.europa.eu/blob/19973740tb_superseded.pdf/AD_F-1997-374-238_2] [which corresponds to FAA AD 98-20-27, Amendment 39-10793 (63 FR 50981, September 24, 1998)] and [DGAC] AD 1999-008-020(B) [http://ad.easa.europa.eu/blob/19980080tb_superseded.pdf/AD_F-1999-008-020_2], which are superseded, but requires those actions, for A300-600 aeroplanes only, within reduced thresholds and intervals.

* * * * *

You may examine the MCAI in the AD docket on the Internet at http://www.regulations.gov by searching for and locating Docket No. FAA-2015-0824.

Related Service Information Under 1 CFR Part 51

Airbus has issued Service Bulletin A300-57-6045, Revision 10, dated November 13, 2013. The service information describes inspection procedures for fatigue cracking of the wing top skin at the front spar joint between ribs 1 and 7. The actions described in this service information are intended to correct the unsafe condition identified in the MCAI. This service information is reasonably available; see ADDRESSES for ways to access this service information.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This Proposed AD and the MCAI or Service Information

Unlike the procedures described in the MCAI and Airbus Service Bulletin A300-57-6045, Revision 10, dated November 13, 2013, this proposed AD would not permit further flight if cracks are detected in the wing top skin at the front spar joint. We have determined that, because of the safety implications and consequences associated with that cracking, any cracked wing top skin at the front spar joint must be repaired before further flight. This difference has been coordinated with the EASA.

Costs of Compliance

We estimate that this proposed AD affects 130 airplanes of U.S. registry.

The actions that are required by AD 98-20-27, Amendment 39-10793 (63 FR 50981, September 24, 1998), and retained in this proposed AD take about 2 work-hours per product, at an average labor rate of $85 per work-hour. Based on these figures, the estimated cost of the actions that are required by AD 98-20-27 is $170 per product.

We also estimate that it would take about 2 work-hours per product to comply with the basic requirements of this proposed AD. The average labor rate is $85 per work-hour. Based on these figures, we estimate the cost of this proposed AD on U.S. operators to be $22,100, or $170 per product.

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 98-20-27, Amendment 39-10793 (63 FR 50981, September 24, 1998), and adding the following new AD:

Airbus: Docket No. FAA-2015-0824; Directorate Identifier 2013-NM-191-AD.

(a) Comments Due Date

We must receive comments by May 29, 2015.

(b) Affected ADs

This AD replaces AD 98-20-27, Amendment 39-10793 (63 FR 50981, September 24, 1998).

(c) Applicability

This AD applies to the Airbus airplanes identified in paragraphs (c)(1) through (c)(4) of this AD, certificated in any category, all manufacturer serial numbers.

(1) Airbus Model A300 B4-601, B4-603, B4-620, and B4-622 airplanes.

(2) Airbus Model A300 B4-605R and B4-622R airplanes.

(3) Airbus Model A300 F4-605R and F4-622R airplanes.

(4) Airbus Model A300 C4-605R Variant F airplanes.

(d) Subject

Air Transport Association (ATA) of America Code 57, Wings.

(e) Reason

This AD was prompted by reports of cracking of wing top skin in an area not required for inspection by AD 98-20-27, Amendment 39-10793 (63 FR 50981, September 24, 1998). We are issuing this AD to detect and correct fatigue cracking of the wing top skin at the front spar joint, which could result in reduced structural integrity of the airplane.

(f) Compliance

Comply with this AD within the compliance times specified, unless already done.

(g) Retained Repetitive Inspections, With Revised Service Information

This paragraph restates the requirements of paragraph (a) of AD 98-20-27, Amendment 39-10793 (63 FR 50981, September 24, 1998), with revised service information. Prior to the accumulation of 22,000 total flight cycles, or within 2,000 flight cycles after October 29, 1998 (the effective date of AD 98-20-27), whichever occurs later: Perform a detailed visual inspection to detect fatigue cracking of the wing top skin at the front spar joint, in accordance with Airbus Service Bulletin A300-57-6045, Revision 1, dated August 3, 1994, including Appendix 1, Revision 1, dated August 3, 1994; Airbus Service Bulletin A300-57-6045, Revision 02, dated April 21, 1998, including Appendix 1, Revision 02, dated April 21, 1998; or Airbus Service Bulletin A300-57-6045, Revision 10, dated November 13, 2013. Repeat the detailed visual inspection thereafter at intervals not to exceed 8,000 flight cycles.

(h) Retained Inspection and Repair, With Revised Service Information

This paragraph restates the requirements of paragraph (b) of AD 98-20-27, Amendment 39-10793 (63 FR 50981, September 24, 1998), with revised service information. If any cracking is suspected or detected during any inspection required by paragraph (g) of this AD: Prior to further flight, perform an eddy current inspection to confirm the findings of the visual inspection, in accordance with Airbus Service Bulletin A300-57-6045, Revision 01, dated August 3, 1994, including Appendix 1, Revision 01, dated August 3, 1994; Airbus Service Bulletin A300-57-6045, Revision 02, dated April 21, 1998, including Appendix 1, Revision 02, dated April 21, 1998; or Airbus Service Bulletin A300-57-6045, Revision 10, dated November 13, 2013. If any cracking is detected during any eddy current inspection, prior to further flight, repair using a method approved by the Manager, International Branch, ANM-116, FAA, Transport Airplane Directorate; or the Direction Générale de l'Aviation Civile (or its delegated agent).

(i) New Requirement of This AD: Initial Inspection

At the applicable time specified in paragraph (i)(1) or (i)(2) of this AD: Do a detailed inspection of the wing top skin between ribs one and seven for cracking, in accordance with the Accomplishment Instructions of Airbus Service Bulletin A300-57-6045, Revision 10, dated November 13, 2013. Accomplishment of the initial inspection required by this paragraph terminates the requirements of paragraph (g) of this AD.

(1) For Model A300 B4-601, B4-603, B4-620, and B4-622 airplanes, Model A300 B4-605R and B4-622R airplanes, and Model A300 C4-605R Variant F airplanes: At the later of the times specified in paragraphs (i)(1)(i) and (i)(1)(ii) of this AD.

(i) Before the accumulation of 17,100 total flight cycles or 38,400 total flight hours, whichever occurs first.

(ii) Within 1,000 flight cycles or 2,200 flight hours, whichever occurs first after the effective date of this AD.

(2) For Model A300 F4-605R and F4-622R airplanes: At the later of the times specified in paragraphs (i)(2)(i) and (i)(2)(ii) of this AD.

(i) Before the accumulation of 22,000 total flight cycles or 49,500 total flight hours, whichever occurs first.

(ii) Within 1,300 flight cycles or 2,800 flight hours, whichever occurs first after the effective date of this AD.

(j) New Requirement of This AD: Repetitive Inspections

Repeat the inspection required by paragraph (i) of this AD thereafter at the applicable time and intervals specified in paragraphs (j)(1) and (j)(2) of this AD.

(1) For Model A300 B4-601, B4-603, B4-620, and B4-622 airplanes, Model A300 B4-605R and B4-622R airplanes, and Model A300 C4-605R Variant F airplanes: At the applicable time specified in paragraph (j)(1)(i) or (j)(1)(ii) of this AD.

(i) For airplanes that have an average flight time (AFT) that is equal to or more than one and one-half hours: At intervals not to exceed 5,100 flight cycles or 11,000 flight hours, whichever occurs first.

(ii) For airplanes that have an AFT that is less than one and one-half hours: At intervals not to exceed 5,500 flight cycles or 8,300 flight hours, whichever occurs first.

(2) For Model A300 F4-605R and F4-622R airplanes: At the applicable time specified in paragraph (j)(2)(i) or (j)(2)(ii) of this AD.

(i) For airplanes that have an AFT that is equal to or more than one and one-half hours: At intervals not to exceed 6,500 flight cycles or 14,100 flight hours, whichever occurs first.

(ii) For airplanes that have an AFT that is less than one and one-half hours: At intervals not to exceed 7,000 flight cycles or 10,600 flight hours, whichever occurs first.

(k) New Requirement of This AD: Repair of Cracking

(1) If any crack in the top skin in the area forward of the front spar attachment is found during any inspection required by paragraph (i) of this AD: Before further flight, repair using a method approved by the Manager, International Branch, ANM-116, Transport Airplane Directorate, FAA; or EASA; or Airbus's EASA DOA.

(2) If any crack or sign of a crack is found in the top skin at or aft of the spar attachment during any inspection required by paragraph (i) of this AD: Before further flight, do an eddy current inspection of the cracks or of the signs of cracking to confirm the findings of the detailed inspection, in accordance with the Accomplishment Instructions of Airbus Service Bulletin A300-57-6045, Revision 10, dated November 13, 2013. If there are any cracks at or aft of the spar attachment, before further flight, repair using a method approved by the Manager, International Branch, ANM-116, Transport Airplane Directorate, FAA; EASA; or Airbus's EASA DOA.

(l) No Terminating Action

Accomplishment of any repair required by paragraph (k) this AD does not constitute terminating action for the repetitive inspections required by paragraph (j) of this AD.

(m) No Reporting Required

Although Airbus Service Bulletin A300-57-6045, Revision 10, dated November 13, 2013, specifies to submit certain information to the manufacturer, this AD does not include that requirement.

(n) Credit for Previous Actions

This paragraph provides credit for actions required by paragraphs (i), (j) and (k) of this AD, if those actions were performed before the effective date of this AD using the Airbus service bulletins specified in paragraphs (n)(1) through (n)(10) of this AD, which are not incorporated by reference in this AD.

(1) Airbus Service Bulletin A300-57-6045, dated March 18, 1993.

(2) Airbus Service Bulletin A300-57-6045, Revision 01, dated August 3, 1994.

(3) Airbus Service Bulletin A300-57-6045, Revision 02, dated April 21, 1998.

(4) Airbus Service Bulletin A300-57-6045, Revision 03, dated October 25, 1999.

(5) Airbus Service Bulletin A300-57-6045, Revision 04, dated January 13, 2002.

(6) Airbus Service Bulletin A300-57-6045, Revision 05, dated June 13, 2003.

(7) Airbus Service Bulletin A300-57-6045, Revision 06, dated January 13, 2005.

(8) Airbus Service Bulletin A300-57-6045, Revision 07, dated August 14, 2008.

(9) Airbus Service Bulletin A300-57-6045, Revision 08, dated June 6, 2011.

(10) Airbus Service Bulletin A300-57-6045, Revision 09, dated May 21, 2013.

(o) Other FAA AD Provisions

The following provisions also apply to this AD:

(1) Alternative Methods of Compliance (AMOCs): The Manager, International Branch, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 98-20-27, Amendment 39-10793 (63 FR 50981, September 24, 1998), are approved as AMOCs for the corresponding provisions of this AD.

(2) Contacting the Manufacturer: As of the effective date of this AD, for any requirement in this AD to obtain corrective actions from a manufacturer, the action must be accomplished using a method approved by the Manager, International Branch, ANM-116, Transport Airplane Directorate, FAA; or EASA; or Airbus's EASA DOA. If approved by the DOA, the approval must include the DOA-authorized signature.

(p) Related Information

(1) Refer to Mandatory Continuing Airworthiness Information (MCAI) EASA Airworthiness Directive 2013-0232R1, dated October 2, 2013, for related information. This MCAI may be found in the AD docket on the Internet at http://www.regulations.gov by searching for and locating Docket No. FAA-2015-0824.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on March 27, 2015.
Michael Kaszycki,
Acting Manager, Transport Airplane Directorate, Aircraft Certification Service.

[FR Doc. 2015-08071 Filed 4-13-15; 8:45 am]

BILLING CODE 4910-13-P